DEPARTMENT OF ENERGY

Federal Energy Regulatory Commission

Combined Notice of Filings

Take notice that the Commission has received the following Natural Gas Pipeline Rate and Refund Report filings:

Filings Instituting Proceedings

Docket Numbers: RP19-148-000.

Applicants: NEXUS Gas Transmission, LLC.

Description: § 4(d) Rate Filing: NegRates—EGD Releases eff 11-1-2018 to be effective 11/1/2018.

Filed Date: 10/30/18.

Accession Number: 20181030-5080.

Comments Due: 5 p.m. ET 11/13/18.

Docket Numbers: RP18-1193-001.

Applicants: Enable Gas Transmission, LLC.

Description: Compliance filing Fuel Tracker Compliance Filing—Eff Nov 1 2018 to be effective 11/1/2018.

Filed Date: 11/6/18.

Accession Number: 20181106-5098.

Comments Due: 5 p.m. ET 11/19/18.

Docket Numbers: RP19-241-000.

Applicants: Texas Eastern Transmission, LP.

Description: § 4(d) Rate Filing: Nov18 Cleanup—UGI Utilities Name Change to be effective 12/6/2018.

Filed Date: 11/6/18.

Accession Number: 20181106-5024.

Comments Due: 5 p.m. ET 11/19/18.

Docket Numbers: RP19-242-000.

Applicants: Texas Eastern Transmission, LP.

Description: § 4(d) Rate Filing: Negotiated Rate—Sempra 911550 correction to be effective 11/6/2018.

Filed Date: 11/6/18.

Accession Number: 20181106-5046.

Comments Due: 5 p.m. ET 11/19/18/.

Docket Numbers: RP19-243-000.

Applicants: Southern Star Central Gas Pipeline, Inc.

Description: Compliance filing Annual Operational Flow Order Report 2018.

Filed Date: 11/6/18.

Accession Number: 20181106-5056.

Comments Due: 5 p.m. ET 11/19/18.

Docket Numbers: RP19-244-000.

Applicants: Natural Gas Pipeline Company of America.

Description: § 4(d) Rate Filing: Amendment to Negotiated Rate Agreement-Wisconsin Electric Power Company to be effective 11/6/2018.

Filed Date: 11/6/18.

Accession Number: 20181106-5157.

Comments Due: 5 p.m. ET 11/19/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 7, 2018.
Nathaniel J. Davis, Sr.,
Deputy Secretary.

[FR Doc. 2018-24780 Filed 11-13-18; 8:45 am]

BILLING CODE 6717-01-P